INTERNATIONAL TRADE COMMISSION

[Inv. No. 337-TA-604]

In the Matter of Certain Sucralose, Sweeteners Containing Sucralose, and Related Intermediate Compounds Thereof; Notice of Investigation

AGENCY: U.S. International Trade Commission.

ACTION: Institution of investigation pursuant to 19 U.S.C. 1337.

SUMMARY: Notice is hereby given that a complaint was filed with the U.S. International Trade Commission on April 6, 2007, under section 337 of the Tariff Act of 1930, as amended, 19 U.S.C. 1337, on behalf of Tate & Lyle Technology Limited of London, United Kingdom and Tate & Lyle Sucralose, Inc. of Decatur, Illinois. Supplemental letters were filed on April 13, April 18, April 23, and April 25, 2007. The complaint, as supplemented, alleges violations of section 337 in the importation into the United States, the sale for importation, and the sale within the United States after importation of certain sucralose, sweeteners containing sucralose, and related intermediate compounds thereof by reason of infringement of certain claims of U.S. Patent Nos. 5,470,969, 5,034,551, 4,980,463, 5,498,709, and 7,049,435. The complaint, as supplemented, further alleges that an industry in the United States exists as required by subsection (a)(2) of section 337.

The complainants request that the Commission institute an investigation and, after the investigation, issue a general exclusion order and permanent cease and desist orders.

ADDRESSES: The complaint and supplement, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://www.usitc.gov/secretary/edis.htm.

FOR FURTHER INFORMATION CONTACT: Anne M. Goalwin, Esq., Office of Unfair Import Investigations, U.S. International Trade Commission, telephone (202) 205-2574.

Authority: The authority for institution of this investigation is contained in section 337 of the Tariff Act of 1930, as amended, and in section 210.10 of the Commission's Rules of Practice and Procedure, 19 CFR 210.10 (2006).

Scope of Investigation: Having considered the complaint, the U.S. International Trade Commission, on May 7, 2007, ordered that—

(1) Pursuant to subsection (b) of section 337 of the Tariff Act of 1930, as amended, an investigation be instituted to determine whether there is a violation of subsection (a)(1)(B) of section 337 in the importation into the United States, the sale for importation, or the sale within the United States after importation of certain sucralose, sweeteners containing sucralose, and related intermediates compounds thereof by reason of infringement of one or more of claims 20-26, 28, and 29 of U.S. Patent No. 5,470,969; claims 1-4 and 11-22 of U.S. Patent No. 5,034,551; claims 1-3 and 16-18 of U.S. Patent No. 4,980,463; claims 8, 9, and 13 of U.S. Patent No. 5,498,709; and claim 1 of U.S. Patent No. 7,049,435; and whether an industry in the United States exists as required by subsection (a)(2) of section 337;

(2) For the purpose of the investigation so instituted, the following are hereby named as parties upon which this notice of investigation shall be served:

(a) The complainants are—Tate & Lyle Technology Limited, Sugar Quay, Lower Thames Street, London EC3R 6DQ, United Kingdom.

Tate & Lyle Sucralose, Inc., 2200 East Eldorado Street, Decatur, IL 62525.

(b) The respondents are the following entities alleged to be in violation of section 337, and are the parties upon which the complaint, as supplemented, is to be served:

AIDP, Inc., 17920 East Ajax Circle, City of Industry, California 91748.

Beijing Forbest Chemical Co., Ltd, Room 2 1801, Building 2, Yard 3, District 1, Fangqunyuan, Fangzhuang, Fengtai District, Beijing 100078, People's Republic of China.

Beijing Forbest Trade Co., Ltd., Room 2 1801, Building 2, Yard 3, District 1, Fangqunyuan, Fangzhuang, Fengtai District, Beijing 100078, People's Republic of China.

Forbest International USA, LLC, 131 Fieldcrest Avenue, Suite B, Edison, New Jersey 08873.

Changzhou Niutang Chemical Plant Co., Ltd., No. 51 Yanzhang Road, Niutang Town, Changzhong, Jiangsu 213263, People's Republic of China.

U.S. Niutang Chemical, Inc., 2913 Saturn Street, Unit G, Brea, California 92821.

CJ America, Inc., 3470 Wilshire Blvd, Suite 930, Los Angeles, California 90010.

Fortune Bridge Co. Inc., 137 Meacham Ave, Elmont, New York 11003.

Garuda International, Inc., 638 Industrial Drive, Exeter, California 93221.

Gremount International Co., Ltd., Rm. 2107, Plaza A, Freetown Center, No. 58, South Road Dongsanhuan, Chaoyang District, Beijing 100022, People's Republic of China.

Guangdong Food Industry Institute, No. 146 Xin-gang Dong Road, Guangzhou, Guangdong 510308, People's Republic of China.

Hebei Province Chemical Industry Academe, No.18, Jianhua South Street, Shijiazhuang City, Hebei Province 050031, People's Republic of China.

Hebei Research Institute of Chemical Industry, No. 18, Jianhua South Street, Shijiazhuang City, Hebei Province 050031, People's Republic of China.

Hebei Sukerui Science and Technology Co., Ltd., Zengcun Town Industrial Park, Gaocheng City, Hebei 052160, People's Republic of China.

Heartland Packaging Corporation, 14300 Clay Terrace Boulevard, Suite 249, Carmel, Indiana 46032. L&P Food Ingredient Co., Ltd., #146, Xin-gang Dong Road, Guangzhou, Guangdong 510308, People's Republic of China.

Lianyungang Natiprol (Intl'l) Co., Ltd., 17/F, Building A, Longhe Mansion, No. 6, Cangwu Road, Xinpu, Lianyungang, Jiangsu 222006, People's Republic of China.

MTC Industries, Inc., 41 Mercedes Way Unit 21, Edgewood, New York 11717.

Nantong Molecular Technology Co., Ltd., No. 15 Fuxing Rd., Economic and Technical Development Zone, Nantong, Jiangsu Province 226009, People's Republic of China.

Nu-Scaan Nutraceuticals, Ltd., Waterside House, Waterside, Macclesfield, Cheshire, SK11 7HG, United Kingdom.

ProFood International, Inc., 40 Shuman Boulevard, Suite 160, Naperville, Illinois 60563.

Ruland Chemistry Co., Ltd., Rm. 1201 Heping Mansion, No. 22 East Beijing Road, Nanjing 210018, People's Republic of China.

Shanghai Aurisco International Trading Co. Ltd., 1603, 3 Building, 1555 North Kaixuan Road, Shanghai, 200063, People's Republic of China.

Vivion, Inc., 929 Bransten Road, San Carlos, California 94070.

Zhongjin Pharmaceutical (Hong Kong) Co. Ltd., Rm B 12/F Wing On Cheong Bldg., 5 Wing Lok St., Central, Hong Kong, Hong Kong.

(c) The Commission investigative attorney, party to this investigation, is Anne M. Goalwin, Esq., Office of Unfair Import Investigations, U.S. International Trade Commission, 500 E Street, SW., Room 401, Washington, DC 20436; and

(3) For the investigation so instituted, the Honorable Charles E. Bullock is designated as the presiding administrative law judge.

The Commission notes that some of the patents at issue may cover processes that produce chemical precursors or intermediates of sucralose or that recover certain chemical catalysts from the synthesis. In instituting this investigation, the Commission has not made any determination as to the scope of 35 U.S.C. 1337(a)(1)(B)(ii) or whether 337(a)(1)(B)(ii) is sufficiently broad as to encompass such processes. Accordingly, the presiding administrative law judge may wish to consider these fundamental issues at an early date. Any such decision should be issued in the form of an initial determination (ID) under Rule 210.42(c), 19 CFR 210.42(c). The ID will become the Commission's final determination 45 days after the date of service of the ID unless the Commission determines to review the ID. Any such review will be conducted in accordance with Commission Rules 210.43, 210.44 and 210.45, 19 CFR 210.43, 210.44, and 210.45.

Responses to the complaint, as supplemented, and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint, as supplemented, and the notice of investigation. Extensions of time for submitting responses to the complaint, as supplemented, and the notice of investigation will not be granted unless good cause therefor is shown.

Failure of a respondent to file a timely response to each allegation in the complaint, as supplemented, and in this notice may be deemed to constitute a waiver of the right to appear and contest the allegations of the complaint, as supplemented, and this notice, and to authorize the administrative law judge and the Commission, without further notice to the respondent, to find the facts to be as alleged in the complaint, as supplemented, and this notice and to enter an initial determination and a final determination containing such findings, and may result in the issuance of a limited exclusion order or cease and desist order or both directed against the respondent.

By order of the Commission.
Issued: May 7, 2007.
William R. Bishop,
Acting Secretary to the Commission.

[FR Doc. E7-9047 Filed 5-9-07; 8:45 am]

BILLING CODE 7020-02-P